DEPARTMENT OF COMMERCE

International Trade Administration

[A-201-838]

Seamless Refined Copper Pipe and Tube From Mexico: Correction to Notice of Preliminary Determination of Sales at Less Than Fair Value and Postponement of Final Determination

AGENCY: Import Administration, International Trade Administration, Department of Commerce.

DATES: Effective Date: May 28, 2010.

FOR FURTHER INFORMATION CONTACT: Joy Zhang or George McMahon, AD/CVD Operations, Office 3, Import Administration, International Trade Administration, U.S. Department of Commerce, 14th Street and Constitution Avenue, NW., Washington, DC 20230; telephone: (202) 482-1168 or (202) 482-1167, respectively.

SUPPLEMENTARY INFORMATION:

Correction

On May 12, 2010, the Department of Commerce (“the Department”) published in the Federal Register the following notice: Seamless Refined Copper Pipe and Tube From Mexico: Notice of Preliminary Determination of Sales at Less Than Fair Value and Postponement of Final Determination, 75 FR 26726 (May 12, 2010) (“Mexico Preliminary Determination”). Subsequent to the publication of the notice in the Federal Register, we identified an inadvertent error in the Mexico Preliminary Determination. Specifically, the Department made an error by inadvertently modifying the text within the section titled “Scope of Investigation,” which caused certain terms (e.g., seamless, circular, and refined) to be deleted from portions of the scope language that was previously included in the Initiation Notice. See Seamless Refined Copper Pipe and Tube From the People's Republic of China and Mexico: Initiation of Antidumping Duty Investigations, 74 FR 55194, 55199 (October 27, 2009) (“Initiation Notice”). For reference, below is the correct scope language of the instant investigation.

Scope of Investigation

For the purpose of this investigation, the products covered are all seamless circular refined copper pipes and tubes, including redraw hollows, greater than or equal to 6 inches (152.4 mm) in length and measuring less than 12.130 inches (308.102 mm) (actual) in outside diameter (“OD”), regardless of wall thickness, bore (e.g., smooth, enhanced with inner grooves or ridges), manufacturing process (e.g., hot finished, cold-drawn, annealed), outer surface (e.g., plain or enhanced with grooves, ridges, fins, or gills), end finish (e.g., plain end, swaged end, flared end, expanded end, crimped end, threaded), coating (e.g., plastic, paint), insulation, attachments (e.g., plain, capped, plugged, with compression or other fitting), or physical configuration (e.g., straight, coiled, bent, wound on spools).

The scope of this investigation covers, but is not limited to, seamless refined copper pipe and tube produced or comparable to the American Society for Testing and Materials (“ASTM”) ASTM-B42, ASTM-B68, ASTM-B75, ASTM-B88, ASTM-B88M, ASTM-B188, ASTM-B251, ASTM-B251M, ASTM-B280, ASTM-B302, ASTM-B306, ASTM-359, ASTM-B743, ASTM-B819, and ASTM-B903 specifications and meeting the physical parameters described therein. Also included within the scope of this investigation are all sets of covered products, including “line sets” of seamless refined copper tubes (with or without fittings or insulation) suitable for connecting an outdoor air conditioner or heat pump to an indoor evaporator unit. The phrase “all sets of covered products” denotes any combination of items put up for sale that is comprised of merchandise subject to the scope.

“Refined copper” is defined as: (1) Metal containing at least 99.85 percent by weight of copper; or (2) metal containing at least 97.5 percent by weight of copper, provided that the content by weight of any other element does not exceed the following limits:

Element | Limiting content percent by weight
Ag—Silver | 0.25
As—Arsenic | 0.5
Cd—Cadmium | 1.3
Cr—Chromium | 1.4
Mg—Magnesium | 0.8
Pb—Lead | 1.5
S—Sulfur | 0.7
Sn—Tin | 0.8
Te—Tellurium | 0.8
Zn—Zinc | 1.0
Zr—Zirconium | 0.3
Other elements (each) | 0.3

Excluded from the scope of this investigation are all seamless circular hollows of refined copper less than 12 inches in length whose OD (actual) exceeds its length.

The products subject to this investigation are currently classifiable under subheadings 7411.10.1030 and 7411.10.1090 of the Harmonized Tariff Schedule of the United States (“HTSUS”). Products subject to this investigation may also enter under HTSUS subheadings 7407.10.1500, 7419.99.5050, 8415.90.8065, and 8415.90.8085. Although the HTSUS subheadings are provided for convenience and customs purposes, the written description of the scope of this investigation is dispositive.

Conclusion

The Department clarifies that the “Scope of Investigation” section of the Mexico Preliminary Determination was unintentionally modified and no changes to the scope of this investigation have occurred pursuant to the Mexico Preliminary Determination. Therefore, the scope language stated in the Initiation Notice reflects the scope of this investigation. This notice is issued and published in accordance with sections 733(f) and 777(i)(1) of the Tariff Act of 1930, as amended.

Dated: May 21, 2010.
Ronald K. Lorentzen,
Deputy Assistant Secretary for Import Administration.

[FR Doc. C1-2010-12959 Filed 5-27-10; 8:45 am]

BILLING CODE 3510-DS-P